DEPARTMENT OF DEFENSE

Department of the Army

Availability for Non-Exclusive or Partially-Exclusive Licensing of Invention Concerning Obstetrics Simulation and Training Method System

AGENCY: Department of the Army, DoD.

ACTION: Notice.

SUMMARY: Announcement is made of the availability for licensing of the invention set forth in U.S. Patent Application Serial No. 12/670,250, entitled “Obstetrics Simulation and Training Method and System,” filed January 22, 2010. Foreign rights are also available for licensing (PCT/US2008/076725). The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates generally to an obstetrics simulation system. An embodiment of the invention provides an obstetrics simulation system compromising an articulating maternal birthing simulator that is a full size and full body female having an intubeable airway with a chest rise component, a forearm having a medication receiving component, and/or a fetal heart sound component. Additionally, the maternal birthing simulator includes a head descent and cervical dilation monitor, a placenta positionable in at least two locations, two or more removable dilating cervices, and/or postpartum vulval suturing inserts.

Brenda S. Bowen,
Army Federal Register Liaison Officer.

[FR Doc. 2010-27064 Filed 10-25-10; 8:45 am]

BILLING CODE 3710-08-P